DEPARTMENT OF ENERGY

Federal Energy Regulatory Commission

[Project No. 14322-000]

Corbett Water District; Notice of Application Tendered for Filing With the Commission and Soliciting Additional Study Requests

Take notice that the following hydroelectric application has been filed with the Commission and is available for public inspection.

a. Type of Application: Original Minor License.

b. Project No.: 14322-000.

c. Date filed: May 14, 2013.

d. Applicant: Corbett Water District.

e. Name of Project: Corbett Hydroelectric Project.

f. Location: The project would utilize existing diversions from the North and South Forks of Gordon Creek which currently serve a municipal water supply system approximately 15 miles east of Portland, in Multnomah County, Oregon. A portion of the project would be located on federal lands managed by the Bureau of Land Management (BLM).

g. Filed Pursuant to: Federal Power Act 16 U.S.C. 791(a)-825(r).

h. Applicant Contact: James Jans, Corbett Water District, 36120 E. Historic Columbia River Hwy., P.O. Box 6, Corbett, OR 97019-0006. Phone: (503) 695-2284.

i. FERC Contact: Ken Wilcox, (202) 502-6835 or ken.wilcox@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 15, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The Corbett Project would consist of the following features: (1) The existing 10-inch-diameter, 2-mile-long buried steel pipeline from the North Fork diversion structure; (2) the existing 10-inch-diameter, 2-mile-long buried ductile iron pipeline from the South Fork diversion structure; (3) a new 10-kilowatt Turgo turbine; (4) a small new building housing the turbine, induction motor generator, and controls constructed atop an existing filter pond influent diversion structure; and (5) appurtenant facilities. The project's power would be used to offset power needs at the water treatment plant. The project is estimated to generate about 8.4 megawatt-hours annually. The project would be located on both private and federal lands.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate (e.g., if scoping is waived, the schedule would be shortened).

Issue Deficiency and/or Additional Information Request—July 2013

Issue Notice of Acceptance—August 2013

Issue Scoping Document—August 2013

Issue Notice of Ready for Environmental Analysis—October 2013

Commission issues EA—February 2013

Dated: May 23, 2013.
Kimberly D. Bose,
Secretary.

[FR Doc. 2013-12889 Filed 5-30-13; 8:45 am]

BILLING CODE 6717-01-P